DEPARTMENT OF THE INTERIOR

National Park Service

[NPS-WASO-NRNHL-DTS#-37865; PPWOCRADI0, PCU00RP14.R50000]

National Register of Historic Places; Notification of Pending Nominations and Related Actions

AGENCY: National Park Service, Interior.

ACTION: Notice.

SUMMARY: The National Park Service is soliciting electronic comments on the significance of properties nominated before April 20, 2024, for listing or related actions in the National Register of Historic Places.

DATES: Comments should be submitted electronically by May 15, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before April 20, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

KEY: State, County, Property Name, Multiple Name (if applicable), Address/Boundary, City, Vicinity, Reference Number.

INDIANA

Carroll County

Wagoner-Ayres House, 4565 East State Road 18, Flora, SG100010377

Putnam County

Baker's Camp Covered Bridge, County Road 650 North over Big Walnut Creek, Bainbridge, SG100010368

Cornstalk Covered Bridge, County Road 1350 North over Cornstalk Creek, Roachdale vicinity, SG100010369

Dick Huffman Covered Bridge, County Road 1050 South/Huffman Road over Big Walnut Creek, Cloverdale vicinity, SG100010370

Dunbar Covered Bridge, County Road 25 North over Big Walnut Creek, Greencastle, SG100010371

Edna Collings Covered Bridge, County Road 450 North over Little Walnut Creek, Clinton Falls vicinity, SG100010372

Houck Covered Bridge, County Road 550 South over Big Walnut Creek, Greencastle vicinity, SG100010373

Oakalla Covered Bridge, County Road 375 West over Big Walnut Creek, Greencastle vicinity, SG100010374

Pine Bluff Covered Bridge, County Road 900 North over Big Walnut Creek, Bainbridge vicinity, SG100010375

Rolling Stone Covered Bridge, County Road 800 North over Big Walnut Creek, Bainbridge vicinity, SG100010376

OREGON

Multnomah County

Normandale Field, NE 57th Avenue and NE Hassalo Street, Portland, SG100010362

PENNSYLVANIA

Delaware County

Painter's Folly, 1421 Baltimore Pike, Chadds Ford, SG100010360

Franklin County

Mary B. Sharpe School, (Educational Resources of Pennsylvania MPS), 850 Broad Street, Chambersburg, MP100010358

SOUTH CAROLINA

Aiken County

Ocean Grove School, Southeast of 12 Ocean Grove Road, near intersection with Shaw's Fork Rd., Aiken vicinity, SG100010365

Georgetown County

Holy Cross Faith Memorial School, 88 Baskerville Drive, Pawleys Island vicinity, SG100010366

An additional documentation has been received for the following resource(s):

TENNESSEE

Davidson County

Parthenon, The (Additional Documentation), Centennial Park, Nashville, AD72001236

Hamblen County

Bethesda Presbyterian Church (Additional Documentation), 4990 Bethesda Road, Morristown vicinity, AD73001771

Knox County

Park, James, House (Additional Documentation), 422 W Cumberland Ave., Knoxville, AD72001242

Sevier County

Buckingham House (Additional Documentation), 3172 Boyds Creek Highway, Sevierville vicinity, AD71000831

Williamson County

Lotz House (Additional Documentation), 1111 Columbia Ave., Franklin, AD76001809

VIRGINIA

Chesterfield County

Vawter Hall and Old President's House (Additional Documentation), Virginia State University campus, Ettrick, AD80004180

Henrico County

Malvern Hill (Additional Documentation)

(Civil War in Virginia MPS), SE of jct. of VA 5 and VA 156, Richmond vicinity, AD69000248

Authority: Section 60.13 of 36 CFR part 60.

Paul Lusignan,
Acting Chief, National Register of Historic Places/National Historic Landmarks Program.

[FR Doc. 2024-09234 Filed 4-29-24; 8:45 am]

BILLING CODE 4312-52-P